DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of June and July, 2000.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-37,557; Touch of Lace, Union City, NJ

TA-W-37,754; Texworks, Inc., Milwaukee, WI

TA-W-37,787; Shorewood Packaging Corp. of Alabama, Andalusia, AL

TA-W-37,737; Union Special Corp., Huntley, IL

In the following cases, the investigation revealed that the criteria for eligibility have not been met for the reasons specified.

TA-W-37,665; Chetta B. Evening Limited, New York City, NY

TA-W-37,663; Fruit of The Loom, Sales Office, New York, NY

TA-W-37,686; Calgon Corp., Pittsburgh, PA

TA-W-37,815; Tetra Applied Technology, Inc., Tetra Pipe Sales, Midland, TX

The workers firm does not produce an article as required for certification under Section 222 of the Trade Act of 1974.

TA-W-37,643; Advance Transformer Co., Wartburg, TN

TA-W-37,334; Calgon Corp., Pasadena, Tx

TA-W-37,484; Calgon Corp., Ellwood City, PA

TA-W-37,589; New America Wood Products, Winlock, WA

TA-W-37,634; Marathon Oil Co., Gulf Coast Region, Lafayette, LA

TA-W-37,629; Raychem Corp., Fuquay-Varina, NC

TA-W-37,769; The Rosebud Mining Co LLC, 58 Miles West of Miles West of Winnemucca, NV

TA-W-37,545; Midwest Micro Manufacturing Co., Formerly Known as Vision Technologies LLC, Iron Ridge, WI

TA-W-37,735; International Business Machines Corp. (IBM), Storage Technoligy Div., Desk Sustrate Manufacturing, Rochester, MN

TA-W-37,633; The Homes Group, Rival Div., Warrensburg, MO

Increased imports did not contribute importantly to worker separations at the firm.

Affirmative Determinations for Worker Adjustment Assistance

The following certifications have been issued; the date following the company name and location of each determination references the impact date for all workers of such determination.

TA-W-37,598; Hatch, Inc., El Paso, TX: April 5, 1999.

TA-W-37,460; Mr. Louis Manufacturing, Inc., Hialeah, FL: March 3, 1999.

TA-W-37,544; Fall River Weaving, Inc., Fall River, MA: March 23, 1999.

TA-W-37,799; Swann Embroidery, Florence, AL: May 31, 1999.

TA-W-37,779; Elco Controls, Wytheville, VA: May 26, 1999.

TA-W-37,564; American Camper, A Div. of Brunswick Outdoor Recreation Group, St. George, UT: March 28, 1999.

TA-W-37,475; Finlay Industries, Process Bonding Div., Johnstown, OH: March 7, 1999.

TA-W-37,622; Milano Fashions, Passaic, NJ: April 6, 1999.

TA-W-37,723; The Glove Corp., Calico Rock, AR: May 15, 1999.

TA-W-37,721; Oshkosh B'Gosh, Jamestown, TN: May 18, 1999.

TA-W-37,720; The Doe Run Resources Co., The Southeast Missouri Mining and Milling Div., Viburnum, MO: May 17, 1999.

TA-W-37,688; Ripley Industries, Lewiston, ME: May 12, 1999.

TA-W-37,690; PCC Olofsson, West Branch, MI: May 3, 1999.

TA-W-37,447; Powerex, Inc., Youngwood, PA: February 15, 1999.

TA-W-37,715; Murray, Inc., Lawrenceburg, TN: May 11, 1999.

TA-W-37,693; PCS Nitrogen, Camanche, IA: May 22, 1999.

TA-W-37,650; Long Handle Shirts, Inc., Monroe, NC: April 17, 1999.

TA-W-37,727; Seton Co., El Paso Cutting Plant, El Paso, TX: May 18, 1999.

TA-W-37,781; The Raleigh Col, Raleigh, MS: May 22, 1999.

TA-W-37,766; Condor D.C. Power Supplies, Inc., The Todd Products Group, McAllen, TX: May 25, 1999.

TA-W-37,725; Cadillac Curtain Corp., Dyer, TN: May 17, 1999.

TA-W-37,765; Cuba Specialty Mfg. Co., Inc., Fillmore, NY: May 26, 1999.

TA-W-37,683; Lefever Plastics, Inc., Huntsville, OH: May 5, 1999.

TA-W-37,784; The Thermos Co., Batesville, MS: June 1, 1999.

TA-W-37,776; American Case Co., Ann Arbor, MI: May 30, 1999.

TA-W-37,662 & A; Cape Cod Cricket Lane, A Div. of Kellwood Co., Bridgewater, MA and Hialeah, FL: April 27, 1999.

TA-W-37,674; Marquip, Inc., Madison, WI: May 5, 1999.

TA-W-37,692; Valley Recreation Products, Inc., Sycamore, IL: May 10, 1999.

TA-W-37,624; PMC Specialties Group, Fords, NJ: March 28, 1999.

TA-W-37,648; Olympia Limited, Inc., Hoboken, NJ: April 4, 1999.

TA-W-37,700; Cove Shoe Co., Martinsburg, PA: May 15, 1999.

TA-W-37,749; Cast Alloys, Inc., Northridge, CA: May 23, 1999.

TA-W-37,389; Langenberg Hat Co., Inc., New Haven, MO: February 11, 1999.

TA-W-37,730; Artesyn Technologies, Broomfield, CO: May 16, 1999.

TA-W-37,782; eMag Solutions, LLC, Graham, TX: May 30, 1999.

TA-W-37,657 & A; Ambar Chemical, Inc., Manistee Plant, Manistee, MI and Corporate Office, Houston, TX: April 25, 1999.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of June and July, 2000.

In order for an affirmative determination to be made and a certification of eligibility to apply for NAFTA-TAA the following group eligibility requirements of Section 250 of the Trade Act must be met:

(1) That a significant number of proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-03913; Mr. Louis Manufacturing, Inc., Hialeah, FL

NAFTA-TAA-03831; Midwest Micro Manufacturing Co., Formerly Known as Vision Technologies, LLC, Iron Ridge, WI

NAFTA-TAA-03944; The Holmes Group, Rival Div., Warrensburg, MO

NAFTA-TAA-03951; Rexworks, Inc., Milwaukee, WI

NAFTA-TAA-03842; International Business Machines Corp (IBM), Storage Technology Div., Disk Substrate Manufacturing, Rochester, MN

NAFTA-TAA-03975; Shorewood Packaging Corp. of Alabama, Andalusia, AL

NAFTA-TAA-03926; The Glove Corp., Calico Rock, AR

TAFTA-TAA-03883; Stroehmann Bakeries, Previously Known as Maier's Bakery, Easton, PA

NAFTA-TAA-04001; Flowserve Corp., Temecula, CA

NAFTA-TAA-03937; Cutler-Hammer, Crane Transportation and Resistors, Milwaukee, WI

The investigation revealed that the criteria for eligibility have not been met for the reasons specified.

NAFTA-TAA-03924; Howden Buffalo, Inc., Buffalo, NY

NAFTA-TAA-03960; Hearst Entertainment, King Telpro Productions, Los Angeles, CA

NAFTA-TAA-03958; Destination Film Distribution Co., Inc., Wheelman Productions, Santa Monica, CA

The investigation revealed that workers of the subject firm did not produce an article within the meaning of Section 250(a) of the Trade Act, as amended.

Affirmative Determinations NAFTA-TAA

NAFTA-TAA-03718; Oneida Limited Silversmiths, Sherrill, NY: February 4, 1999.

NAFTA-TAA-03872; Advanced Transformer Co., Wartburg, TN: April 21, 1999.

NAFTA-TAA-03961; Cast Alloys, Inc., Northridge, CA: May 23, 1999.

NAFTA-TAA-03858; Raychem Corp., Fuquay-Varina, NC: April 17, 1999.

NAFTA-TAA-03966; O'Neill, Inc., San Francisco, CA: June 30, 2000.

NAFTA-TAA-03929; Oshkowh B'Gosh, Jamestown, TN: May 18, 1999.

NAFTA-TAA-03896 & A; Ambar Chemical, Inc., Manistee Plant, Manistee, MI & Corporate Office, Houston, TX: April 25, 1999.

NAFTA-TAA-03955; A & B; Dallco Industries, Inc., York, PA, Delta, PA and Spring Run, PA: May 31, 1999.

NAFTA-TAA-03987; K and R Sportswear, Spring Hope, NC: June 21, 1999.

NAFTA-TAA-03905; Four Seasons Apparel Co., Murfreesboro, NC and Sanford, NC: May 5, 1999.

NAFTA-TAA-03922; Ithaca Industries, Inc., Corporate Headquarters, Wilkesboro, NC: May 16, 1999.

NAFTA-TAA-03979; VDO North America, LCC, Cheshire, CT: May 16, 1999.

NAFTA-TAA-03903; Dana—Epic Technical Group, Fluid Systems Group, Kendallville, IN: May 5, 1999.

NAFTA-TAA-03888; Lear Corp., Mold and Die Shop, El Paso, TX: April 21, 1999.

NAFTA-TAA-03964; Seton Co., Leather Div., Saxton, PA: June 5, 1999.

NAFTA-TAA-03959; Celestica Corp., Campton, KY: May 6, 1999.

NAFTA-TAA-03954; Honeywell, Inc., Allied Signal TBS, Bendix Commercial Vehicle Systems, Frankfort, KY: June 5, 1999.

I hereby certify that the aforementioned determinations were issued during the month of June and July, 2000. Copies of these determinations are available for inspection in Room C-4318, U.S. Department of Labor, 200 Constitution Avenue, N.W., Washington, D.C. 20210 during normal business hours or will be mailed to persons who write to the above address.

Dated: July 14, 2000.
Grant D. Beale,
Program Manager, Division of Trade Adjustment Assistance.

[FR Doc. 00-18607 Filed 7-21-00; 8:45 am]

BILLING CODE 4510-30-M